GENERAL ACCOUNTING OFFICE

[Document No. JFMIP-SR-01-01]

Joint Financial Management Improvement Program (JFMIP)—Federal Financial Management System Requirements (FFMSR)

AGENCY: Joint Financial Management Improvement Program (JFMIP)

ACTION: Notice of document availability.

SUMMARY: The JFMIP is seeking public comment on an exposure draft entitled “Benefit System Requirements,” dated May 2001. The draft is the first Federal Financial Management System Requirements (FFMSR) document to address standard requirements for Federal agency benefit systems. The document is intended to assist agencies when developing, improving or evaluating benefit systems. It provides the baseline functionality that benefit systems must have to support agency missions and comply with laws and regulations. When issued in final, the JFMIP Benefit System Requirements document will augment the existing body of FFMSR that define financial system functional requirements which are used in evaluating compliance with the Federal Financial Management Improvement Act (FFMIA) of 1996.

DATES: Comments are due by July 1, 2001.

ADDRESSES: Copies of the exposure draft have been mailed to agency senior financial officials, together with a cover memo listing the questions on which JFMIP is soliciting feedback. The exposure draft and cover memo are available on the JFMIP website: WWW.JFMIP.GOV

Comments should be addressed to JFMIP, 1990 K Street, NW., Suite 430, Washington, DC 20006.

FOR FURTHER INFORMATION: Steven Fisher, (202) 219-0530 or via Internet: fishers@jfmip.gov.

SUPPLEMENTARY INFORMATION: The FFMIA of 1996 mandated that agencies implement and maintain systems that comply substantially with FFMSR, applicable Federal accounting standards, and the U.S. Government Standard General Ledger at the transaction level. The FFMIA statute codified the JFMIP financial system requirements documents as a key benchmark that agency systems must meet to substantially comply with systems requirements provisions under FFMIA. To support the provisions outlined in the FFMIA, the JFMIP is updating obsolete requirements documents and publishing additional requirements documents.

Comments received will be reviewed and the exposure draft will be revised as necessary. Publication of the final requirements will be mailed to agency senior financial officials and will be available on the JFMIP website.

Dated: May 1, 2001.
Steven A. Fisher,
Senior Management Analyst, Joint Financial Management Improvement Program.

[FR Doc. 01-11323 Filed 5-3-01; 8:45 am]

BILLING CODE 1610-02-U